NATIONAL ARCHIVES AND RECORDS ADMINISTRATION

[NARA-2017-002]

Privacy Act of 1974, as Amended; System of Records Notice

AGENCY: National Archives and Records Administration (NARA).

ACTION: Notice revising Privacy Act system of records (SORN) for NARA 39.

SUMMARY: The National Archives and Records Administration (NARA) proposes to revise its system of records on visitor services in its existing inventory of systems subject to the Privacy Act of 1974, as amended (“Privacy Act”). In this notice, NARA publishes the proposed revised NARA 39, Visitor Service System (VSS) Files (formerly Visitor Ticketing Application (VISTA) Files). NARA is revising SORN 39 to reflect a move to a cloud-hosted environment, which affects the system name, location information, and safeguards.

DATES: This revised system of records, NARA 39, will become effective December 14, 2016 without further notice unless we receive comments by December 5, 2016 that cause us to revise it. NARA will publish a new notice if we must delay the effective date to review comments or make changes.

ADDRESSES: You may submit comments, identified by “SORN NARA 39,” by one of the following methods:

• Federal eRulemaking Portal: http://www.regulations.gov. Follow the instructions for submitting comments.

• Email: Regulation_comments@nara.gov. Include SORN NARA 39 in the subject line of the message.

• Mail (for paper, disk, or CD-ROM submissions. Include SORN NARA 39 on the submission): Regulations Comment Desk, Strategy and Performance Division (SP); Suite 4100; National and Archives Records Administration; 8601 Adelphi Road; College Park, MD 20740-6001

• Hand delivery or courier: Deliver comments to front desk at the address above.

Instructions: All submissions must include NARA's name and SORN NARA 39. We may publish any comments we receive without changes, including any personal information you include.

FOR FURTHER INFORMATION CONTACT: Kimberly Keravuori, External Policy Program Manager, by email at regulation_comments@nara.gov, or by telephone at 301-837-3151.

SUPPLEMENTARY INFORMATION: The notice for this system of records states the record system's name and location, authority for and manner of operation, categories of individuals it covers, types of records it contains, sources of information in the records, and the “routine uses” from Appendix A for which the agency may use the information. Appendix B includes the business address of the NARA official you may contact to find out how you may access and correct records pertaining to yourself. You may find Appendix A and Appendix B on NARA's Web site at https://www.archives.gov/privacy/inventory.html.

The Privacy Act provides certain safeguards for an individual against an invasion of personal privacy. It requires Federal agencies that disseminate any record of personally identifiable information to do so in a manner that assures the action is for a necessary and lawful purpose, the information is current and accurate for its intended use, and the agency provides adequate safeguards to prevent misuse of such information. NARA intends to follow these principles when transferring information to another agency or individual as a “routine use,” including assuring that the information is relevant for the purposes for which it is transferred.

David S. Ferriero,
Archivist of the United States.

NARA 39

SYSTEM NAME:

Visitor Service System (VSS) Files.

SYSTEM LOCATION:

The system data is in a cloud-hosted environment, located in the continental United States.

CATEGORIES OF INDIVIDUALS COVERED BY THE SYSTEM:

Individuals covered by this system include people who purchase tickets to Presidential libraries, serve as points of contact for groups visiting the Presidential libraries, and are invited guests to special events at the libraries.

CATEGORIES OF RECORDS IN THE SYSTEM:

VSS files may include the following information on an individual: Name, mailing address, telephone number, email address, and credit card information.

AUTHORITY FOR MAINTENANCE OF THE SYSTEM:

44 U.S.C. 2108, 2111 note, 2112, and 2203(f)(1).

ROUTINE USES OF RECORDS MAINTAINED IN THE SYSTEM, INCLUDING CATEGORIES OF USERS AND THE PURPOSES OF SUCH USES:

NARA maintains the VSS files on individuals to: Store information on groups that interact with the library; conduct outreach with the points of contact in these groups to maintain visitor levels and improve service; study visitor data over time; communicate confirmation letters to visitors, and store information on those attending special events. Libraries may disclose the information to support their Presidential library foundations, and where a library is co-located with a National Park, to the National Park Service. The routine use statements A, C, E, F, G, and H, described in Appendix A, also apply to this system of records.

POLICIES AND PRACTICES FOR STORING, RETRIEVING, ACCESSING, RETAINING, AND DISPOSING OF RECORDS IN THE SYSTEM:

STORAGE:

Electronic records.

RETRIEVABILITY:

Staff may retrieve information in the records by the individual's name or any of the other categories of information in the database.

SAFEGUARDS:

Staff access the electronic records via password-protected workstations located in attended offices or through a secure, remote-access network. After business hours, buildings have security guards and/or secured doors, and electronic surveillance equipment monitors all entrances.

RETENTION AND DISPOSAL:

NARA retains and disposes of the records in accordance with the NARA Records Control Schedule and the General Records Schedules approved by the National Archives and Records Administration.

SYSTEM MANAGER(S) AND ADDRESS:

The system manager is the Director, Office of Presidential Libraries. The business address for the system manager is listed in Appendix B.

NOTIFICATION PROCEDURE:

People inquiring about their records should notify the NARA Privacy Act Officer at the address listed in Appendix B.

RECORD ACCESS PROCEDURES:

People who wish to access their records should submit a request in writing to the NARA Privacy Act Officer at the address listed in Appendix B.

CONTESTING RECORD PROCEDURES:

NARA's rules for contesting the contents of a person's records and appealing initial determinations are in 36 CFR part 1202.

RECORD SOURCE CATEGORIES:

NARA obtains information in the VSS files from visitors and from NARA employees who maintain the files.

[FR Doc. 2016-26696 Filed 11-3-16; 8:45 am]

BILLING CODE 7515-01-P